ENVIRONMENTAL PROTECTION AGENCY

[FRL-8231-2; EPA-HQ-Docket ID No. EPA-ORD-2006-0666]

Approaches To Estimating the Waterborne Disease Outbreak Burden in the United States: Uses and Limitations of the Waterborne Disease Outbreak Surveillance System; External Review Draft

AGENCY: Environmental Protection Agency (EPA).

ACTION: Notice of peer-review workshop.

SUMMARY: EPA is announcing that Versar, Inc., an EPA contractor for external scientific peer review, will convene an independent panel of experts and organize and conduct a two-day external peer-review workshop to review the external review draft document titled, “Approaches to Estimating the Waterborne Disease Outbreak Burden in the United States: Uses and Limitations of the Waterborne Disease Outbreak Surveillance System” (EPA/600/R-06/069).

On September 15, 2006 (71 FR 54481), EPA announced a 30-day public comment period for the draft document. The public comment period ends October 16, 2006. The draft document was prepared by the National Center for Environmental Assessment (NCEA) within EPA's Office of Research and Development.

The public comment period and the external peer-review workshop are separate processes that provide opportunities for all interested parties to comment on the document. In addition to consideration by EPA, all public comments submitted in accordance with this notice will also be forwarded to EPA's contractor for the external peer-review panel prior to the workshop.

EPA is releasing this draft document solely for the purpose of pre-dissemination peer review under applicable information quality guidelines. This draft document has not been formally disseminated by EPA. It does not represent and should not be construed to represent any Agency policy or determination.

Versar, Inc., invites the public to register to attend this workshop as observers. In addition, Versar, Inc., invites the public to give oral and/or provide written comments at the workshop regarding the draft document under review. The draft document and EPA's peer-review charge are available primarily via the Internet on NCEA's home page under the Recent Additions and the Data and Publications menus at http://www.epa.gov/ncea. In preparing a final report, EPA intends to consider Versar, Inc.'s report of the comments and recommendations from the external peer-review workshop and any public comments that EPA receives in accordance with this notice.

DATES: The peer-review panel workshop will begin on October 26, 2006, at 9 a.m. and end on October 27, 2006, at 5 p.m. The second day of the workshop is closed to the public and to EPA so that the peer-review panel members can consider the draft document and prepare their individual comments. On September 15, 2006, EPA announced a thirty-day public comment period for the draft document, which began September 15, 2006, and ends October 16, 2006 (71 FR 54481). Technical comments should be in writing and must be received by EPA by October 16, 2006. For more information on how to submit comments, please refer to the September 15, 2006, Federal Register notice (71 FR 54481).

ADDRESSES: The peer-review workshop will be held at the U.S. EPA, Andrew W. Breidenbach Environmental Research Center (AWBERC) Building, 26 West Martin Luther King Drive, Cincinnati, Ohio 45268. The EPA contractor, Versar, Inc., is organizing, convening, and conducting the peer-review workshop. To attend the workshop, register by October 20, 2006, by visiting http://epa.versar.com/waterborne. You can also register by calling Keith E. Drewes at Versar, Inc. (386) 852-8322, sending a facsimile to (386) 322-6051, or sending an e-mail to drewekei@Versar.com.

The draft document, “Approaches to Estimating the Waterborne Disease Outbreak Burden in the United States: Uses and Limitations of the Waterborne Disease Outbreak Surveillance System,” is available primarily via the Internet on the National Center for Environmental Assessment's home page under the Recent Additions and the Data and Publications menus at http://www.epa.gov/ncea. A limited number of paper copies are available from the Technical Information Staff, NCEA-Cincinnati by telephone: (513) 569-7257 or by facsimile: (513) 569-7916. If you are requesting a paper copy, please provide your name, mailing address, and the document title, “Approaches to Estimating the Waterborne Disease Outbreak Burden in the United States: Uses and Limitations of the Waterborne Disease Outbreak Surveillance System.” Copies are not available from Versar, Inc.

FOR FURTHER INFORMATION CONTACT: Questions regarding information, registration, and logistics for the external peer-review workshop should be directed to Keith E. Drewes of Versar, Inc., via e-mail: drewekei@versar.com, telephone: (386) 852-8322, or facsimile: (386) 322-6051.

For information on the public comment period, contact the Office of Environmental Information Docket by telephone: (202) 566-1752, facsimile: (202) 566-1753, or e-mail: ORD.Docket@epa.gov.

If you need technical information about the document, please contact Glenn Rice, National Center for Environmental Assessment (NCEA), by telephone: (513) 569-7813, facsimile: (513) 487-2539, or e-mail: rice.glenn@epa.gov.

SUPPLEMENTARY INFORMATION:

I. Summary of Information About the Project/Document

Information about waterborne disease outbreaks (WBDOs) in the United States is voluntarily reported by State, territorial and local public health agencies to the Centers for Disease Control and Prevention (CDC). CDC and EPA jointly maintain a WBDO database. The database describes outbreak attributes including, among other things, the drinking water system deficiency, the etiologic agent, and the number of individuals who became ill. Underreporting of such events is assumed but the magnitude of underreporting is unknown.

This draft document presents an approach for estimating the epidemiologic and economic burden of disease associated with 665 WBDOs reported in the U.S. between 1971 and 2000. The term disease burden broadly refers to the magnitude of the impact incurred by society as a consequence of disease in the community (e.g., decrements in a population's health or the associated economic effects) and there are various metrics that can be employed by analysts to quantify burden. In order to capture some of the benefits of drinking water regulations, EPA has typically expressed waterborne disease impacts in terms of epidemiologic and monetary measures; this WBDO burden analysis employs those same measures. Because not all WBDOs in the United States and associated cases of illness are reported, the WBDO database on which this draft document is based is not comprehensive. The extent to which WBDOs are not recognized is unknown and is not examined in this analysis. This draft report develops several quantitative sensitivity analyses to characterize some of the uncertainty in the burden estimates but does not provide an evaluation of the potential impact of under- or overreporting of WBDOs or their associated severity characteristics. The draft report includes recommendations for the collection and reporting of additional outbreak information that would improve the usefulness of the WBDO database for future disease burden estimates.

II. Workshop Information

Members of the public may attend the workshop as observers, and there will be a limited time for comments from the public in the afternoon. Please let Versar, Inc., know if you wish to make comments during the workshop. Space is limited, and reservations will be accepted on a first-come, first-served basis. The second day of the workshop is closed to the public and to EPA so that the peer-review panel members can consider the draft document and prepare their individual comments.

Dated: October 10, 2006.
George Alapas,
Director, National Center for Environmental Assessment.

[FR Doc. E6-17098 Filed 10-13-06; 8:45 am]

BILLING CODE 6560-50-P